DEPARTMENT OF HEALTH AND HUMAN SERVICES

Centers for Disease Control and Prevention

[60Day-24-24BJ; Docket No. CDC-2023-0097]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled DP-23-0002 Healthy Schools Evaluation. The project aims to evaluate processes and outcomes of the programs of 20 State entities funded by CDC's Healthy Schools Branch to improve health, academic achievement, and well-being of students in K-12 schools nationwide.

DATES: CDC must receive written comments on or before February 9, 2024.

ADDRESSES: You may submit comments, identified by Docket No. CDC-2023-0097 by either of the following methods:

☐ Federal eRulemaking Portal: www.regulations.gov. Follow the instructions for submitting comments.

☐ Mail: Jeffrey M. Zirger, Information Collection Review Office, Centers for Disease Control and Prevention, 1600 Clifton Road NE, MS H21-8, Atlanta, Georgia 30329; Telephone: 404-639-7118; Email: omb@cdc.gov.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

CDC-RFA-DP-23-0002 Healthy Schools Program Evaluation—New—National Center for Chronic Disease Prevention and Health Promotion (NCCDPHP), Centers for Disease Control and Prevention (CDC).

Background and Brief Description

CDC awarded funds through cooperative agreement DP23-0002 (2302 Program) to 20 funding recipients (States, universities, and a Tribal nation) to improve health, academic achievement, and well-being of students in K-12 schools. A portion of the funding within each State is allocated to one priority local education agency (LEA) and its corresponding schools to support the implementation of policies, practices, and programs to increase physical activity, healthy dietary behaviors, and management of chronic health conditions among students. CDC is conducting a mixed-methods multi-level evaluation of the 2302 Program and associated outcomes. Evaluation findings will allow CDC to help recipients improve their programs as they progress over the five-year funding period. A CDC evaluation contractor will collect information from relevant funded recipients, priority LEAs, schools, and students. Program monitoring information will be collected from recipients via a monthly reporting tool. Descriptions of the implementation of the program's two strategies and nine activities will be collected in years two and four via semi-structured, virtual key informant interviews with program leaders among funded recipients and their priority LEA colleagues to understand successes, barriers, and lessons learned. Additionally, two annual questionnaires will be distributed either digitally (web-based) and/or on paper. One of the questionnaires is for school-level leaders in participating schools in the 20 priority LEAs focusing on implementation of healthy school policies, practices, and programs. The other questionnaire is for students in elementary, middle, and high schools (grades 4-12) in the priority LEAs' schools focusing on physical activity, dietary behaviors, management of chronic health conditions, and well-being and academic attainment. The evaluation results will help recipients improve their programs and aid CDC in understanding and communicating the impact of its funding. We

CDC requests approval for the period of three years, with an anticipated request for an extension after that to cover the full five years of the program. The annual estimated total time burden to participants is 810 hours. There are no anticipated financial costs to participants other than their time to participate.

Estimated Annualized Burden Hours
Type of respondents | Form name | Number of respondents | Number of responses per respondent | Average burden per response (in hours) | Total burden hours
Recipient personnel | Recipient Monthly Reporting | 20 | 12 | 15/60 | 60
Recipient and priority LEA personnel | Interviews | 60 | 1 | 40/60 | 40
School personnel | Healthy Schools Survey | 100 | 1 | 30/60 | 50
Students | Healthy Students Survey | 2,000 | 1 | 20/60 | 660
Total |  |  |  |  | 810

Jeffrey M. Zirger,
Lead, Information Collection Review Office, Office of Public Health Ethics and Regulations, Office of Science, Centers for Disease Control and Prevention.

[FR Doc. 2023-27080 Filed 12-8-23; 8:45 am]

BILLING CODE 4163-18-P